DEPARTMENT OF THE INTERIOR

Fish and Wildlife Service

50 CFR Part 17

RIN 1018-AG96

Endangered and Threatened Wildlife and Plants; Designation of Critical Habitat for Delphinium bakeri and Delphinium luteum (Baker's and Yellow Larkspur)

AGENCY: Fish and Wildlife Service, Interior.

ACTION: Proposed rule; notice of availability of draft economic analysis; reopening of comment period.

SUMMARY: We, the U.S. Fish and Wildlife Service (Service), announce the availability of the draft economic analysis for the proposed designation of critical habitat for Delphinium bakeri (Baker's larkspur) and Delphinium luteum (yellow larkspur) located in Marin and Sonoma counties, California. We are reopening the comment period for the proposal to designate critical habitat for these species to allow all interested parties to comment simultaneously on the proposed rule and the associated draft economic analysis. Comments previously submitted need not be resubmitted as they will be incorporated into the public record as part of this extended comment period, and will be fully considered in the final rule.

DATES: We will accept comments on both the draft economic analysis and the proposed critical habitat designation until December 2, 2002.

ADDRESSES: Written comments and information should be submitted to the Field Supervisor, Sacramento Fish and Wildlife Office, U.S. Fish and Wildlife Service, 2800 Cottage Way, Suite W-2605, Sacramento, CA 95825. For the electronic mail address, and further instructions on commenting, refer to Public Comments Solicited section of this notice.

FOR FURTHER INFORMATION CONTACT: Glen Tarr, at the address above (telephone 916/414-6600; facsimile 916/414-6710).

SUPPLEMENTARY INFORMATION:

Background

Delphinium bakeri and Delphinium luteum (Baker's and yellow larkspur) are perennial herbs in the buttercup family (Ranunculaceae) endemic to (native and restricted to) Sonoma and Marin counties in California. Delphinium bakeri produces dark blue or purplish flowers in April and May, while D. luteum produces bright yellow flowers from March to May.

We listed both plants as endangered species under the Endangered Species Act of 1973, as amended (Act) (16 U.S.C. 1531 et seq.) on January 6, 2000 (65 FR 4156). On June 18, 2002, we proposed six critical habitat units for the plants, totaling 1,786 hectares (ha) (4,412 acres (ac)) (67 FR 41367). For Delphinium bakeri, we proposed two units in Sonoma and Marin counties, California totaling 740 ha (1,828 ac), while for D. luteum, we proposed four units in Sonoma and Marin counties totaling 1,046 ha (2,584 ac). All of the area proposed as critical habitat is in private ownership.

Critical habitat receives protection from destruction or adverse modification through required consultation under section 7 of the Act with regard to actions carried out, funded, or authorized by a Federal agency. Section 4(b)(2) of the Act requires that the Secretary of the Interior shall designate or revise critical habitat based upon the best scientific and commercial data available, after taking into consideration the economic impact of specifying any particular area as critical habitat.

The public comment period for the June 18, 2002, proposal originally closed on August 19, 2002. We have prepared a draft economic analysis on the effects of the proposed critical habitat designation, and are now announcing its availability for review. The draft analysis estimates the foreseeable economic impacts of the critical habitat designation on government agencies and private businesses and individuals. Reopening of the comment period will provide the public an opportunity to evaluate and comment on both the proposed rule and the draft economic analysis. Comments already submitted on the proposed designation of critical habitat for Delphinium bakeri and D. luteum do not need to be resubmitted as they will be fully considered in the final determinations.

Public Comment Solicited

The final economic analysis concerning the designation of critical habitat for Delphinium bakeri and D. luteum will consider information and recommendations from all interested parties. We will accept written comments and information during this reopened comment period. If you wish to comment, you may submit your comments and materials concerning this proposal by any of several methods:

You may mail or hand-deliver written comments and information to the Field Supervisor, Sacramento Fish and Wildlife Office, U.S. Fish and Wildlife Service, 2800 Cottage Way, Suite W-2605, Sacramento, CA 95825. Hand deliveries must be made during normal business hours.

You may also send comments by electronic mail (e-mail) to: fw1bakers _yellow_larkspur@fws.gov.

Hand-delivered or mailed comments and information should be submitted to the Sacramento Fish and Wildlife Office, as found in the ADDRESSES section. Comments and information submitted by e-mail should be addressed to fw1bakers_yellow_larkspur@fws.gov. If you submit comments by e-mail, please submit them as an ASCII file and avoid the use of special characters and any form of encryption. Please also include a return address in your e-mail message. If you do not receive a confirmation from the system that we have received your e-mail message, contact us directly by calling our Sacramento Fish and Wildlife Office at telephone number 916/414-6600, during normal business hours.

We solicit comments or suggestions from the public, other concerned governmental agencies, tribes, the scientific community, industry, or any other interested parties concerning the proposal or the draft economic analysis. We particularly seek comments concerning:

(1) Plans or potential for development within the area proposed to be designated, notwithstanding the comments of the county employee contacted in preparing the economic analysis;

(2) Plans or potential for conversion of land within the area proposed to be designated to other types of agricultural uses, such as vineyards, which might require a permit under section 404 of the Clean Water Act, or other types of Federal permits;

(3) The likelihood of “stigma effects” and costs associated with the designation; and

(4) The likely effects and resulting costs arising from the California Environmental Quality Act and other State laws as a result of the designation.

Comments and materials received, as well as supporting documentation used in preparation of the proposal to designate critical habitat, will be available for inspection, by appointment, during normal business hours at our office listed in the ADDRESSES section. Copies of the draft economic analysis are available on the Internet at www.r1.fws.gov or by writing or calling Glen Tarr or Susan Moore, at the address or telephone number listed above.

Author

The primary author of this notice is Glen Tarr (see ADDRESSES section).

Authority

The authority for this action is the Endangered Species Act of 1973 (16 U.S.C. 1531 et seq.).

Dated: October 23, 2002.
Paul Hoffman,
Acting Assistant Secretary for Fish and Wildlife and Parks.

[FR Doc. 02-27872 Filed 10-31-02; 8:45 am]

BILLING CODE 4310-55-P